DEPARTMENT OF COMMERCE

International Trade Administration

[A-583-854]

Certain Steel Nails From Taiwan: Preliminary Results and Rescission, in Part, of Antidumping Administrative Review; 2022-2023

AGENCY: Enforcement and Compliance, International Trade Administration, Department of Commerce.

SUMMARY: The U.S. Department of Commerce (Commerce) preliminarily finds that Cyuan Hong Enterprise Co. (Cyuan Hong), Hsieh Shun Iron Wire Mfg. Co. Ltd. (Hsieh Shun), Qi Ding Enterprise Co. Ltd. (Qi Ding), Yeong Ming Steel Iron Co., Ltd. (Yeong Ming), and non-individually examined companies for which a review was requested made sales of certain steel nails (nails) from Taiwan at prices below normal value (NV) during the period of review (POR), July 1, 2022, through June 30, 2023. Commerce also preliminarily finds that two companies, Concord International Engineering & Trading Co., Ltd. (Concord International) and Wiresmith Industrial Co., Ltd. (Wiresmith), had no reviewable sales of nails from Taiwan during the POR and that six other companies made no shipments of subject merchandise during the POR. Additionally, Commerce is rescinding this administrative review, in part, with respect to certain companies that had no entries of subject merchandise during the POR. We invite interested parties to comment on these preliminary results.

DATES: Applicable July 16, 2024.

FOR FURTHER INFORMATION CONTACT: Faris Montgomery or Henry Wolfe, AD/CVD Operations, Office VIII, Enforcement and Compliance, International Trade Administration, U.S. Department of Commerce, 1401 Constitution Avenue NW, Washington, DC 20230; telephone: (202) 482-1537 or (202) 482-0574, respectively.

SUPPLEMENTARY INFORMATION:

Background

On July 13, 2015, Commerce published the antidumping duty order on nails from Taiwan.¹ On July 1, 2023, Commerce published a notice of opportunity to request an administrative review of the Order for the POR.² On July 26, 2023, Mid Continent Steel & Wire Inc. (Mid Continent) filed a timely request for review with respect to 172 companies.³ On July 27, 2023, Your Standing International Inc. (Your Standing) individually timely requested a review of its own entries during the POR.⁴ Pursuant to these requests, on September 11, 2023, Commerce published the Initiation Notice in the Federal Register.⁵

¹ See Certain Steel Nails from the Republic of Korea, Malaysia, the Sultanate of Oman, Taiwan, and the Socialist Republic of Vietnam: Antidumping Duty Orders, 80 FR 39994 (July 13, 2015) (Order).

² See Antidumping or Countervailing Duty Order, Finding, or Suspended Investigation; Opportunity to Request Administrative Review and Join Annual Inquiry Service List, 88 FR 42693, 42694 (July 3, 2023).

³ See Mid Continent's Letter, “Request for Administrative Review,” dated July 26, 2023.

⁴ See Your Standing's Letter, “Steel Nails from Taiwan,” date July 27, 2023.

⁵ See Initiation of Antidumping and Countervailing Duty Administrative Reviews, 88 FR 62322, 62329 (September 11, 2023) (Initiation Notice).

In the Initiation Notice, Commerce indicated that, in the event that it limited the respondents for individual examination in accordance with section 777A(c)(2) of the Tariff Act of 1930, as amended (the Act), Commerce intended to select respondents for individual examination based on U.S. Customs and Border Protection (CBP) data.⁶ On September 14, 2023, Commerce released CBP entry data to interested parties and provided interested parties the opportunity to comment on the CBP data and respondent selection.⁷ No interested parties filed comments regarding the CBP data or respondent selection.

⁶ Id.

⁷ See Memorandum “Release of Customs Data from U.S. Customs and Border Protection,” dated September 14, 2023.

On October 4, 2023, Astrotech Steels Private Limited (Astrotech) and Tag Fasteners Sdn. Bhd. (Tag Fasteners) timely filed letters certifying that they had no shipments of subject merchandise during the POR.⁸ On October 5 and 11, 2023, Jinhai Hardware Co., Ltd. (Jinhai Hardware) and Region System Sdn. Bhd. (Region Systems), Region Industries Co., Ltd. (Region Industries), and Region International Co., Ltd. (Region International), respectively, timely filed letters certifying that they had no shipments of subject merchandise during the POR.⁹

⁸ See Astrotech's Letter, “Request for No Shipment during the Period of Review (POR),” dated October 4, 2023; see also Tag Fastener's Letter, “Submission of Statement of No Shipments,” dated October 4, 2023.

⁹ See Jinhai Hardware's Letter, “Submission of Statement of No Shipments,” dated October 5, 2023; see also Region Systems, Region Industrials, and Region International's Letter, “Submission of No Shipments,” dated October 11, 2023.

On October 10, 2023, Team Builder Enterprise, Ltd. (Team Builder) ¹⁰ and Wiresmith ¹¹ both filed certified “statements of no sales,” claiming that they are resellers and that their respective unaffiliated suppliers of subject merchandise all have knowledge of final destination to the United States, and thus, these companies fall under the reseller policy ¹² and have no sales for examination by Commerce. On October 31, 2023, Mid Continent submitted comments on Team Builder's statement of no sales.¹³

¹⁰ See Team Builder's Letter, “Statement of No Sales to the United States,” dated October 10, 2023.

¹¹ See Wiresmith's Letter, “Statement of No Sales to the United States,” dated October 10, 2023.

¹² See Antidumping and Countervailing Duty Proceedings: Assessment of Antidumping Duties, 68 FR 23954 (May 6, 2003) (Assessment of Antidumping Duties).

¹³ See Mid Continent's Letter, “Comments on Team Builder's No Shipment Letter,” dated October 23, 2023.

On October 31, 2023, Commerce selected Hseih Shun and Your Standing as Mandatory respondents in this review.¹⁴ On November 2, 2023, Commerce issued AD questionnaire to Hseih Shun and Your Standing.¹⁵ On November 20, 2023, Mid Continent timely withdrew its request for administrative review with respect to five producers of subject merchandise.¹⁶ On November 22, 2023, Your Standing timely withdrew its request for an administrative review of itself.¹⁷

¹⁴ See Memorandum, “Respondent Selection,” dated October 31, 2023.

¹⁵ See Commerce's Letters, “Request for Information,” dated October 31, 2023 (AD Questionnaire).

¹⁶ See Mid Continent's Letter, “Withdrawal of Request for Administrative Review,” dated November 20, 2023. The companies for which Mid Continent withdrew request for review are: (1) Right Source Co., Ltd. (Right Source); (2) Shang Jeng Nail Co., Ltd.; (3) Team Builder Enterprise Limited.; (4) World Kun Co., Ltd. (World Kun); and (5) Your Standing International, Inc.

¹⁷ See Your Standing's Letter, “Steel Nails from Taiwan,” dated November 22, 2023.

Because Hseih Shun did not timely respond, or request an extension of time to respond to Commerce's AD questionnaire,¹⁸ on December 29, 2023, Commerce selected Cyuan Hong and Yeong Ming as additional mandatory respondents ¹⁹ and subsequently issued the AD questionnaires to Cyuan Hong and Yeong Ming on January 2, 2024.²⁰

¹⁸ See Memorandum, “Questionnaire Deadline,” dated December 14, 2023.

¹⁹ See Memorandum, “First Selection of Additional Mandatory Respondents,” dated December 29, 2023.

²⁰ See Commerce's Letters, “Request for Information,” dated January 2, 2024.

Because Cyuan Hong and Yeong Ming did not timely respond, or request an extension of time to respond to Commerce's AD questionnaire,²¹ on January 22, 2024, Commerce selected Concord and Foison Hardware Inc. (Foison) as additional mandatory respondents ²² and subsequently issued the AD questionnaire to Concord and Foison.²³ On February 2, 2024, Commerce was informed that Foison was unreachable at the provided address.²⁴

²¹ See Memoranda, “Questionnaire Deadline for Cyuan Hong Enterprise Co.,” dated January 22, 2024; and “Questionnaire Deadline for Yeong Ming Steel Iron Co., Ltd.,” dated January 22, 2024.

²² See Memorandum, “Second Selection of Additional Mandatory Respondents,” dated January 25, 2024

²³ See Commerce's Letters, “Request for Information,” dated January 26, 2024.

²⁴ See Memorandum, “Attempt to Deliver Initial Questionnaire,” dated February 2, 2024.

Between February and March 2024, Concord filed its response to sections A through D of Commerce's AD questionnaire.²⁵ On March 4, 2024, Commerce issued a supplemental questionnaire to Concord and received a timely filed response.²⁶

²⁵ See Concord's Letters, “Section A Response,” dated February 22, 2024; and “Section C-D Response,” dated March 18, 2024.

²⁶ See Concord's Letter, “Section A Supplemental Questionnaire Response,” dated March 8, 2024.

Pursuant to section 751(a)(3)(A) of the Tariff Act of 1930, as amended (the Act), on March 5, 2024, Commerce determined that it was not practicable to complete the preliminary results of this review within 245 days and extended the deadline for the preliminary results of this review until July 30, 2024.²⁷

²⁷ See Memorandum, “Extension of Deadline for Preliminary Results of Antidumping Duty Administrative Review,” dated March 5, 2024.

Because Foison was unreachable at the provided address, on March 7, 2024, Commerce selected Qi Ding as an additional mandatory respondent ²⁸ and subsequently issued the AD questionnaire to Qi Ding.²⁹ Qi Ding did not timely respond, or request an extension of time to respond to Commerce's AD questionnaire.³⁰

²⁸ See Memorandum, “Third Selection of Additional Mandatory Respondents,” date March 7, 2024.

²⁹ See Commerce's Letter, “Request for information,” dated March 11, 2024.

³⁰ See Memorandum, “Questionnaire Deadline for Qi Ding Enterprise Co. Ltd.,” dated April 2, 2024.

Scope of the Order

The merchandise covered by this Order are certain steel nails from Taiwan. The certain steel nails subject to the Order are currently classifiable under Harmonized Tariff Schedule of the United States (HTSUS) subheadings 7317.00.55.02, 7317.00.55.03, 7317.00.55.05, 7317.00.55.07, 7317.00.55.08, 7317.00.55.11, 7317.00.55.18, 7317.00.55.19, 7317.00.55.20, 7317.00.55.30, 7317.00.55.40, 7317.00.55.50, 7317.00.55.60, 7317.00.55.70, 7317.00.55.80, 7317.00.55.90, 7317.00.65.30, 7317.00.65.60 and 7317.00.75.00. Certain steel nails subject to this Order also may be classified under HTSUS subheadings 7907.00.60.00, 8206.00.00.00 or other HTSUS subheadings. Although the HTSUS subheadings are provided for convenience and for customs purposes, the written product description of the scope of this Order is dispositive.

Partial Rescission of Review

Pursuant to 19 CFR 351.213(d)(1), Commerce will rescind an administrative review, in whole or in part, if the party that requested the review withdraws its request within 90 days of the publication of the notice of initiation of the requested review. Because all requests for administrative review of Team Builder, Your Standing, World Kun, Shang Jeng Nail Co. Ltd. (Shang Jeng), and Right Source were withdrawn by interested parties within 90 days of the date of publication of the Initiation Notice, Commerce is rescinding this review with respect to these five companies, in accordance with 19 CFR 351.213(d)(1).

Pursuant to 19 CFR 351.213(d)(3), it is Commerce's practice to rescind an administrative review of an antidumping duty order when there are no reviewable entries of subject merchandise during the POR for which liquidation is suspended.³¹ Normally, upon completion of an administrative review, the suspended entries are liquidated at the antidumping duty assessment rate calculated for the review period.³² Therefore, for an administrative review to be conducted, there must be at least one reviewable, suspended entry that Commerce can instruct CBP to liquidate at the antidumping duty assessment rate calculated for the review period.³³ There were no entries of subject merchandise during the POR for 144 companies subject to review.³⁴ As a result, on April 9, 2024, Commerce notified all interested parties of its intent to rescind this review, in part, with respect to these 144 companies and received no comments.³⁵ The administrative review remains active with respect to 23 companies.

³¹ See, e.g., Dioctyl Terephthalate from the Republic of Korea: Rescission of Antidumping Administrative Review; 2021-2022, 88 FR 24758 (April 24, 2023); see also Certain Carbon and Alloy Steel Cut-to-Length Plate from the Federal Republic of Germany: Recission of Antidumping Administrative Review; 2020-2021, 88 FR 4157 (January 24, 2023).

³² See 19 CFR 351.212(b)(1).

³³ See 19 CFR 351.213(d)(3).

³⁴ See Appendix I for a list of these companies.

³⁵ See Memorandum, “Notice of Intent to Rescind Review, In Part,” dated April 4, 2024. We note that Commerce received no-shipment certifications from six companies: Astrotech; Jinhai Hardware; Region Systems; Region Industries; Region International; and Tag Fasteners. To confirm these companies' no-shipment claims, Commerce issued a no-shipment inquiry to U.S. CBP and received no contradictory information. See Memorandum “No Shipment Inquiry for Multiple Companies During the Period 07/01/2022 through 06/20/2023,” dated February 22, 2024.

Preliminary Determination of No Reviewable Sales

Wiresmith is a reseller of subject merchandise that reported that it had no reviewable sales or shipments during the POR. Wiresmith provided sales documentation, such as invoices and packing lists from its unaffiliated suppliers, as well as accounting records as evidence in support of its claims. Additionally, mandatory respondent Concord International provided timely responses to Commerce's antidumping duty questionnaire and supplemental questionnaires. Concord International reported in its questionnaire responses that its unaffiliated supplier had knowledge that the nails they produced and sold to it were destined for the United States.³⁶

³⁶ See Concord International's Letter, “Section A Response” dated February 22, 2024, at 28.

Based on the information provided by Wiresmith and Concord International, we preliminarily determine that these two companies were not the first parties in the transaction chain to have knowledge that the subject merchandise was destined for the United States and, thus, Wiresmith and Concord International are not considered the exporters of subject merchandise during the POR for purposes of this review. Specifically, the record demonstrates that Wiresmith and Concord International's respective unaffiliated suppliers had knowledge that the nails they produced and sold to the resellers were destined for the United States. Thus, we preliminarily determine that Wiresmith and Concord International had no reviewable sales of subject merchandise during the POR.

Commerce finds that, based on the clarification in the 2003 Assessment of Antidumping Duties notice regarding the reseller policy, we will not rescind the review in these circumstances but, rather, will complete the review with respect to the resellers and issue appropriate instructions to CBP after the completion of the review.³⁷ Specifically, we preliminarily find it appropriate in this case to instruct CBP at the completion of the review to liquidate any existing entries of subject merchandise produced and exported by the resellers' respective unaffiliated suppliers at the rate applicable to the unaffiliated producers, or the all-others rate if there is no rate for the unaffiliated producers.³⁸

³⁷ Id.

³⁸ See, e.g., Certain Frozen Warmwater Shrimp from India: Partial Rescission of Antidumping Duty Administrative Review, 73 FR 77610, 77612 (December 19, 2008); Certain Pasta from Turkey: Notice of Preliminary Results of Antidumping Duty Administrative Review, 76 FR 23974, 23977 (April 29, 2011), unchanged in Pasta from Turkey: Notice of Final Results of the 14th Antidumping Duty Administrative Review, 76 FR 68399 (November 4, 2011); see also Certain Steel Nails from Taiwan: Preliminary Results of Antidumping Duty Administrative Review, Preliminary Determination of No Shipments, and Partial Rescission of Review; 2020-2021, 87 FR 35734, 35736 (June 13, 2022), unchanged in Certain Steel Nails from Taiwan: Final Results of Antidumping Duty Administrative Review and Final Determination of No Shipments; 2020-2021, 87 FR 63034, 63035 (October 18, 2022).

Facts Available

Pursuant to section 776(a)(1) and 776(a)(2)(A)-(C) of the Act, Commerce is preliminarily relying upon facts otherwise available to assign estimated dumping margins to mandatory respondents Cyuan Hong, Hsieh Shun, Qi Ding, and Yeong Ming because all four companies were unresponsive to our requests for information, thereby withholding necessary information that was requested by Commerce, failing to provide the information requested by the specified deadlines in the form and manner requested, and significantly impeding the conduct of the review. Further, Commerce preliminarily finds that Cyuan Hong, Hsieh Shun, Qi Ding, and Yeong Ming failed to cooperate by not acting to the best of their ability to comply with requests for information and, thus, Commerce is applying an adverse inference in selecting among the facts available, in accordance with section 776(b) of the Act. As adverse facts available, we are assigning these companies a rate of 78.17 percent, which is the highest rate applied in any segment of this proceeding.³⁹

³⁹ See Certain Steel Nails from Taiwan: Preliminary Results of Antidumping Duty Administrative Review and Partial Rescission of Administrative Review; 2015-2016, 82 FR 36744 (August 7, 2017), and accompanying Preliminary Decision Memorandum, unchanged in Certain Steel Nails from Taiwan: Final Results of Antidumping Duty Administrative Review and Partial Rescission of Administrative Review; 2015-2016, 83 FR 6163 (February 13, 2018).

Rate for Non-Examined Companies

The statute and Commerce's regulations do not address the establishment of a weighted-average dumping margin to be determined for companies not selected for individual examination when Commerce limits its examination in an administrative review pursuant to section 777A(c)(2) of the Act. Generally, Commerce looks to section 735(c)(5) of the Act, which provides instructions for calculating the all-others rate in an antidumping duty investigation, for guidance when determining the weighted-average dumping margin for companies which were not selected for individual examination in an administrative review. Under section 735(c)(5)(A) of the Act, the all-others rate is normally “an amount equal to the weighted average of the estimated weighted average dumping margins established for exporters and producers individually investigated, excluding any zero and de minimis margins, and any margins determined entirely {on the basis of facts available}.” However, pursuant to section 735(c)(5)(B) of the Act, “if the estimated weighted average dumping margins established for all exports and producers initially investigated are zero or de minimis margins, or are determined entirely {on the basis of facts available}, {Commerce} may use any reasonable method to establish the estimated all-others rate for exporters and producers not individually investigated.”

In this review, the preliminary weighted-average dumping margin for Cyuan Hong, Hsieh Shun, Qi Ding, and Yeong Ming is based entirely on facts available. Therefore, under 735(c)(5)(B) of the Act, Commerce may use any “reasonable method” to establish the estimated all-others rate. Commerce finds it appropriate and within its statute to assign the most recently calculated all-others weighted-average dumping margin previously determined during the Nails from Taiwan 2021-2022 Administrative Review, as Commerce would otherwise be calculating a weighted-average dumping margin based entirely on non-cooperative exporters.⁴⁰ As such, we are preliminarily assigning the all-others rate of 26.28 percent.⁴¹

⁴⁰ See Albemarle Corp. v. United States, 821 F.3d 1345, 1357 (Fed. Cir. 2016) (“Second, as the government points out, in the Adverse Facts Available (“AFA”) context, where Commerce is allowed to consider deterrence as a factor, we have upheld Commerce's use of data from a previous administrative review.”)

⁴¹ See Certain Steel Nails from Taiwan: Final Results of Antidumping Duty Administrative Review, Final Determination of No Shipments, and Final Determination of No Reviewable Sales; 2021-2022, 89 FR 6503 (February 1, 2024) (Nails from Taiwan 2021-2022 Administrative Review).

Preliminary Results

Commerce preliminarily determines that the following estimated weighted-average dumping margin exists for the period, July 1, 2022, through June 30, 2023:

Producer or exporter | Weighted- average dumping margin (percent)
Cyuan Hong Enterprise Co. (Cyuan Hong) | 78.17
Hsieh Shun Iron Wire Mfg. Co. Ltd. (Hsieh Shun) | 78.17
Qi Ding Enterprise Co. Ltd. (Qi Ding) | 78.17
Yeong Ming Steel Iron Co., Ltd. (Yeong Ming) | 78.17
Companies Not Individually Examined ⁴² | 26.28

Disclosure

Normally, Commerce discloses to interested parties the calculations performed in connection with a preliminary determination within five days of any public announcement or, if there is no public announcement, within five days of the date of publication of the notice of preliminary determination in the Federal Register, in accordance with 19 CFR 351.224(b). However, because Commerce preliminarily applied total adverse facts available to the four companies subject to this this review, in accordance with section 776 of the Act, there are no calculations to disclose.

⁴² See Appendix II for a list of these companies.

Public Comment

Pursuant to 19 CFR 351.309(c), interested parties may submit case briefs to Commerce no later than 30 days after the date of publication of this notice.⁴³ Rebuttal briefs, limited to issues raised in the case briefs, may be filed no later than five days after the date for filing case briefs.⁴⁴ Interested parties who submit case briefs or rebuttal briefs in this proceeding must submit: (1) a table of contents listing each issue; and (2) a table of authorities.⁴⁵

⁴³ See 19 CFR 351.303 (for general filing requirements).

⁴⁴ See 19 CFR 351.309(d); see also Administrative Protective Order, Service, and Other Procedures in Antidumping and Countervailing Duty Proceedings, 88 FR 67069, 67077 (September 29, 2023) (APO and Service Final Rule).

⁴⁵ See 19 CFR 351.309(c)(2) and (d)(2).

As provided under 19 CFR 351.309(c)(2) and (d)(2), in prior proceedings we have encouraged interested parties to provide an executive summary of their brief that should be limited to five pages total, including footnotes. In this review, we instead request that interested parties provide at the beginning of their briefs a public, executive summary for each issue raised in their briefs. Further, we request that interested parties limit their public executive summary of each issue to no more than 450 words, not including citations. We intend to use the executive summaries as the basis of the comment summaries included in the issues and decision memorandum that will accompany the final determination in this review. We request that interested parties include footnotes for relevant citations in the public executive summary of each issue. Note that Commerce has amended certain of its requirements pertaining to the service of documents in 19 CFR 351.303(f).⁴⁶

⁴⁶ See APO and Service Final Rule.

Pursuant to 19 CFR 351.310(c), interested parties who wish to request a hearing must submit a written request to the Assistant Secretary for Enforcement and Compliance, filed electronically via Antidumping and Countervailing Duty Centralized Electronic Service System (ACCESS). Requests should contain: (1) the party's name, address, and telephone number; (2) the number of participants; and (3) a list of issues to be discussed. Issues raised in the hearing will be limited to those raised in the respective case briefs. An electronically filed hearing request must be received successfully in its entirety by Commerce's electronic records system, ACCESS, within 30 days after the date of publication of this notice. If a request for a hearing is made, Commerce intends to hold a hearing at a time and date to be determined.⁴⁷ Parties should confirm the date, time, and location of the hearing two days before the scheduled date. All submissions, including case and rebuttal briefs, as well as hearing requests, should be filed using ACCESS.⁴⁸ An electronically-filed document must be received successfully in its entirety by ACCESS by 5:00 p.m. Eastern Time on the established deadline.

⁴⁷ See 19 CFR 351.310(d).

⁴⁸ See 19 CFR 351.303.

Assessment Rates

Upon issuing the final results of this review, Commerce will determine, and U.S. CBP shall assess, antidumping duties on all appropriate entries covered by this review.⁴⁹ With respect to the companies for which we have rescinded this review in part, Commerce intends to instruct CBP to assess antidumping duties on all appropriate entries at rates equal to the cash deposit rate of estimated antidumping duties required at the time of entry, or withdrawal from warehouse, for consumption, during the POR, in accordance with 19 CFR 351.212(c)(1)(i).

⁴⁹ See 19 CFR 351.212(b).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Instructions

The following cash deposit requirements will be effective upon publication in the Federal Register of the notice of final results of administrative review for all shipments of nails from Taiwan entered, or withdrawn from warehouse, for consumption on or after the date of publication as provided for by section 751(a)(2)(C) of the Act: (1) the cash deposit rate for Cyuan Hong, Hsieh Shun, Qi Ding, and Yeong Ming will be equal to weighted-average dumping margin established in the final results of this review; (2) for merchandise exported by a company not covered in this review but covered in a prior completed segment of the proceeding, the cash deposit rate will continue to be the company specific rate published in the completed segment for the most recent period; (3) if the exporter is not a firm covered in this review or another completed segment of this proceeding, but the producer is, then the cash deposit rate will be the company-specific rate established for the completed segment for the most recent period for the producer of the merchandise; and (4) the cash deposit rate for all other producers or exporters will continue to be 26.28 percent, the all-others rate established in the less-than-fair-value investigation investigation.⁵⁰ These cash deposit requirements, when imposed, shall remain in effect until further notice.

⁵⁰ See Certain Steel Nails from Taiwan: Notice of Court Decision Not in Harmony With Final Determination in Less Than Fair Value Investigation and Notice of Amended Final Determination, 82 FR 55090 (November 20, 2017).

Final Results of the Review

Unless the deadline is otherwise extended, Commerce intends to issue the final results of this administrative review, including the results of its analysis of issues raised by interested parties in the written briefs, within 120 days after the date of publication of this notice in the Federal Register, pursuant to section 751(a)(3)(A) of the Act and 19 CFR 351.213(h)(1).

Notification to Importers

This notice serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these preliminary results in accordance with sections 751(a)(1) and 777(i) of the Act, and 19 CFR 351.213(h) and 351.221(b)(4).

Dated: July 10, 2024.
Abdelali Elouaradia,
Deputy Assistant Secretary for Enforcement and Compliance.

Appendix I

Companies for Which Commerce Is Rescinding the Administrative Review

1. A-Jax Enterprises Limited

2. A-Jax International Company Limited

3. A-Stainless International Company Limited

4. Advanced Global Sourcing Limited

5. Aimreach Enterprises Company Limited

6. Alishan International Group Co., Ltd.

7. Alisios International Corporation

8. Allwin Architectural Hardware Inc.

9. A.N. Cooke Manufacturing Co., Pty., Limited

10. Asia Engineered Components

11. Asia Link Industrial Corporation

12. Asia Smarten Way Corp. (Taiwan)

13. Astrotech Steels Private Ltd.

14. Autolink International Company Limited

15. BCR Inc.

16. Boltun Corporation Ltd.

17. Budstech CI Limited

18. Bulls Technology Company Limited

19. Canatex Industrial Company Limited

20. Cata Company Limited

21. Cenluxmetals Company Limited

22. Chang Bin Industrial Co., Ltd.

23. Channg Chin Industry Corporation

24. Charng Yu Industrial Company

25. Chen Nan Iron Wire Co., Ltd.

26. Chen Yu-Lan

27. Chia Da Fastener Company Limited

28. Chia Long Enterprise Co. Ltd.

29. Chiang Shin Fasteners Industries Ltd.

30. Chin Tai Sing Precision Manufactory Co., Ltd.

31. Chun Yu Works & Company Limited

32. Cornwall Enterprise Co., Ltd.

33. Cross International Co., Ltd.

34. Da Wing Industry Company Limited

35. DFK Industrial Corp.

36. Eagre International Trade Co., Ltd.

37. Ever-Top Hardware Corporation

38. Excel Components Manufacturing Co., Ltd.

39. Excellence Industrial Co. Ltd.

40. Fastguard Fastening Systems Inc.

41. Feng Yi Steel Co. Ltd.

42. Fong Yien Industrial Co., Ltd.

43. Fujian Xinhong Mech. & Elec. Co., Ltd.

44. Funtec International Co., Ltd.

45. Fuzhou Royal Floor Co., Ltd.

46. FWU Kuang Enterprise Co., Ltd.

47. H-H Fasteners Company

48. H-Locker Components Inc.

49. Hau Kawang Enterprise Co., Ltd.

50. Hecny Group

51. Hi-Sharp Industrial Corp., Ltd.

52. Hom Wei Enterprise Corporation

53. Hor Liang Industrial Corp.

54. HWA Hsing Screw Industry Co., Ltd.

55. Hwaguo Industrial Fasteners Co., Ltd.

56. Hy-Mart Fastener Co., Ltd.

57. Hyup Sung Indonesia

58. In Precision Link Co., Ltd.

59. Intai Technology Corporation

60. Integral Building Products Inc.

61. Ji Li Deng Fasteners Co., Ltd.

62. Jinhai Hardware Co., Ltd.

63. Jinn Her Enterprise Limited

64. Jointech Fasteners International Co., Ltd.

65. JunHai Enterprise Co. Ltd.

66. Kan Good Enterprise Co., Ltd.

67. Katsuhana Fasteners Corporation

68. Key Use Industrial Works Co., Ltd.

69. Kot Uniontek Co. Ltd.

70. K. Ticho Industries Co., Ltd.

71. K Win Fasteners Inc.

72. Kuan Hsin Screw Industry Co., Ltd.

73. Liang Ying Fasteners Industry Co., Ltd.

74. Long Chan Enterprise Co., Ltd.

75. Lu Chu Shin Yee Works Co., Ltd.

76. M&W Fasteners Co. Ltd.

77. Mechanical Hardwares Co.

78. Min Hwei Enterprise Co., Ltd.

79. Ming Cheng Precision Co., Ltd.

80. Ming Zhan Industrial Co., Ltd.

81. ML Global Ltd.

82. New Pole Power System Com. Ltd.

83. Newfast Co., Ltd.

84. Noah Enterprise Co., Ltd.

85. Nufasco Fastening System Corp.

86. Nytaps Taiwan Corporation

87. Par Excellence Industrial Co., Ltd.

88. Pengteh Industrial Co., Ltd.

89. Pneumax Corp.

90. Printech T Electronics Corporation

91. Pro-an International Co., Ltd.

92. Pro-Team Coil Nail Enterprise, Inc.

93. Pronto Great China Corp.

94. Professional Fasteners Development Co., Ltd.

95. P.S.M. Fasteners (Asia) Limited

96. PT Enterprise, Inc.

97. Real Fasteners Inc.

98. Region System Sdn. Bhd.

99. Region Industries Co., Ltd.

100. Region International Co., Ltd.

101. Right Source Co., Ltd.

102. Rong Chang Metal Co., Ltd.

103. Romp Coil Nail Industries Inc.

104. San Shing Fastech Corporation

105. SBSCQ Taiwan Limited

106. Shang Jeng Nail Co., Ltd.

107. Shanxi Pioneer Hardware Industrial Co., Ltd.

108. Shen Fong Industries Co.

109. Shin Guang Yin Enterprise Co. Ltd.

110. Somax Enterprise Co., Ltd.

111. Soon Port International Co. Ltd.

112. Star World Product and Trading Co., Ltd.

113. Sumeeko Industries Co., Ltd.

114. Sunshine Spring Co., Ltd.

115. Suntec Industries Co., Ltd.

116. Super Nut Industrial Co., Ltd.

117. Supreme Fasteners Corp.

118. Szu I Industries Co., Ltd.

119. Tag Fasteners Sdn. Bhd.

120. Taifas Corporation

121. Taiwan Geer-Tai Works Co., Ltd.

122. Taiwan Quality Fastener Co., Ltd.

123. Team Builder Enterprise Limited

124. Techno Associates Taiwan Co., Ltd.

125. Techup Development Co., Ltd.

126. TG Co., Ltd.

127. Tianjin Jinchi Metal Products Co. Ltd.

128. Tong Hwei Enterprise Co., Ltd.

129. Topps Wang International Ltd.

130. Unicatch Industrial Co., Ltd.

131. Unistrong Industrial Co., Ltd.

132. United Nail Products Co. Ltd.

133. United Tec Fastening Inc.

134. Vanguard International Co., Ltd.

135. Wa Tai Industrial Co., Ltd.

136. Way Fast International Co., Ltd.

137. Win Fastener Corporation

138. World Kun Co., Ltd.

139. Wumax Industry Co., Ltd.

140. Wyser International Corporation

141. Yiciscrew Co., Ltd.

142. Yng Tran Enterprise Company Limited

143. Yoh Chang Enterprise Company Limited

144. Your Standing International, Inc.

145. Yow Chern Company

146. Yumark Enterprises Corporation

147. Yu Tai World Co., Ltd.

148. Zenith Good Enterprise Corporation

149. Zonbix Enterprise Co. Ltd.

Appendix II

Companies Not Selected for Individual Examination

1. Bestwell International Corporation

2. Create Trading Co., Ltd.

3. Dar Yu Enterprise Co., Ltd.

4. Fastnet Corporation

5. Foison Hardware Income

6. GoFast Company Limited

7. JCH Hardware Company Inc.

8. Jockey Ben Metal Enterprise Co., Ltd.

9. Liang Chyuan Industrial Co., Ltd.

10. Midas Union Co., Ltd.

11. Pao Shen Enterprises Co., Ltd.

12. Rodex Fasteners Corp.

13. Spec Products Corporation

14. Ume-Pride International Inc.

15. WTA International Co., Ltd.

16. Wu Shun Enterprise Co.

17. Yeun Chang Hardware Tool Company Limited

[FR Doc. 2024-15603 Filed 7-15-24; 8:45 am]

BILLING CODE 3510-DS-P